DEPARTMENT OF DEFENSE

Air Force

GPS Satellite Simulator Control Working Group Meeting

AGENCY: Department of the Air Force.

ACTION: Meeting Notice.

SUMMARY: This meeting notice is to inform GPS simulator manufacturers, who supply products to the Department of Defense (DoD), and GPS simulator users, both government and DoD contractors, that the GPS Directorate will host a GPS Satellite Simulator Control Working Group (SSCWG) meeting on 1 November 2013 from 0900-1300 PST at Los Angeles Air Force Base.

The purpose of this meeting is to disseminate information about GPS simulators, discuss current and on-going efforts related to GPS simulators, and to discuss future GPS simulator development. This event will be conducted as a classified meeting.

FOR FURTHER INFORMATION CONTACT: We request that you register for this event no later than 21 October 2013. Please send your registration (name, organization, and email address) to wayne.urubio.3@us.af.mil and have your security personnel submit your VAR through JPAS. SMO Code: GPSD and POC: Lt Wayne Urubio, 310-653-4603. Please visit http://www.gps.gov/technical/sscwg/ for information regarding an address and a draft agenda.

Bao-Anh Trinh, DAF,
Air Force Federal Register Liaison Officer.

[FR Doc. 2013-24938 Filed 10-23-13; 8:45 am]

BILLING CODE 5001-10-P